DEPARTMENT OF HOUSING AND URBAN DEVELOPMENT

[Docket No. FR-7001-C-65]

30-Day Notice of Proposed Information Collection: Maintenance Wage Rate Recommendation, Maintenance Wage Rate Survey and Maintenance Wage Survey—Summary Sheet

AGENCY: Office of the Chief Information Officer, HUD.

ACTION: Correction, notice.

SUMMARY: This notice corrects the document HUD published on Monday, February 11, 2019 at 84 FR 3218. HUD omitted the following HUD Form—4230A Report of Additional Classification and Rate and Instructions which is included in this document.

DATES: Comments Due Date: April 22, 2019.

ADDRESSES: Interested persons are invited to submit comments regarding this proposal. Comments should refer to the proposal by name and/or OMB Control Number and should be sent to: HUD Desk Officer, Office of Management and Budget, New Executive Office Building, Washington, DC 20503; fax:202-395-5806, Email: OIRA_Submission@omb.eop.gov.

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on October 17, 2018 at 83 FR 52503.

A. Overview of Information Collection

Title of Information Collection: Report of Additional Classification and Rate.

OMB Approval Number: 2501-0011.

Type of Request: Reinstatement without change of a previously approved collection.

Form Number: HUD Form 4750, HUD Form 4751, HUD Form 4752, and HUD Form 4230A.

Description of the need for the information and proposed use: The information is used by HUD and agencies administering HUD programs to collect information from laborers and mechanics employed on projects subjected to the Federal Labor Standards provisions. The information collected is compared to information submitted by the respective employer on certified payroll reports. The comparison tests the accuracy of the employer's payroll data and may disclose violations. Generally, these activities are geared to the respondent's benefit that is to determine whether the respondent was underpaid and to ensure the payment of wage restitution to the respondent.

Information collection | Number of respondents | Frequency of response | Responses per annum | Burden hours per response | Annual burden hours | Hourly cost per response | Total cost
HUD-4750 Maintenance Wage Recommendation | 1,381.00 | 1.00 | 1,381.00 | 2.00 | 2,762.00 | $41.81 | $115,479.22
HUD-4751 Maintenance Wage Rate Survey | 1,133.00 | 1.00 | 1,133.00 | 2.00 | 2,266.00 | 41.81 | 94,741.46
HUD-4752 Maintenance Wage Rate Survey—Summery Sheet | 1,133.00 | 1.00 | 1,133.00 | 4.00 | 4,532.00 | 41.81 | 189,482.92
HUD-4230A Report of Additional Classification and Rate and Instructions | 500.00 | 1.00 | 500.00 | 1.00 | 500.00 | 41.81 | 20,905.00
Total | 4,147.00 |  | 4,147.00 | 9.00 | 10,060.00 | 41.81 | 420,608.60
Note: HUD now requires this information every 2 years and the table reflects this change.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: March 13, 2019.
Anna P. Guido,
Department Reports Management Officer, Office of the Chief Information Officer.

[FR Doc. 2019-05543 Filed 3-21-19; 8:45 am]

BILLING CODE 4210-67-P